FEDERAL COMMUNICATIONS COMMISSION

47 CFR Part 4

[PS Docket Nos. 21-346, 15-80, ET Docket No. 04-35; FCC 25-45; FR ID 310513]

Resilient Networks; Disruptions to Communications

AGENCY: Federal Communications Commission.

ACTION: Proposed rule.

SUMMARY: In this document, the Federal Communications Commission (FCC or Commission) commences a thorough review of the Disaster Information Reporting System (DIRS) and proposes changes to ensure the system is collecting information useful to disaster response without imposing unreasonable burdens on stakeholders. To reduce these burdens, this document proposes replacing the different DIRS worksheets with a single, dynamic form and introduces a “one-click” option for indicating there is “no change” from the preceding day's DIRS report. Further, this document proposes eliminating or modifying information fields that are duplicative or that may not request information that offers significant value for disaster response. The document further proposes reducing burdens by removing the requirement for mandatory DIRS filers to submit a final report within 24 hours of DIRS deactivation, and eliminating the reporting obligations for non-facilities-based providers. Other modernization proposals include suspending Network Outage Reporting System (NORS) reporting requirements for providers that timely report in DIRS Lite and removing barriers to outage information sharing for state agencies.

DATES: Comments are due on or before October 2, 2025 and reply comments are due on or before November 3, 2025.

ADDRESSES: Pursuant to §§ 1.415 and 1.419 of the Commission's rules, 47 CFR 1.415, 1.419, interested parties may file comments and reply comments on or before the dates indicated on the first page of the Third Further Notice of Proposed Rulemaking. Comments may be filed using the Commission's Electronic Comment Filing System (ECFS). You may submit comments, identified by PS Docket Nos. 21-346 and 15-80; ET Docket No. 04-35 by any of the following methods:

• Electronic Filers: Comments may be filed electronically using the internet by accessing the ECFS: https://www.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the Commission's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities: To request materials in accessible formats for people with disabilities (braille, large print, electronic files, audio format), send an email to fcc504@fcc.gov or call the Consumer & Governmental Affairs Bureau at 202-418-0530.

FOR FURTHER INFORMATION CONTACT: Jeanne Stockman, Attorney Advisor, Cybersecurity and Communications Reliability Division, Public Safety and Homeland Security Bureau, at (202) 418-7830, or Jeanne.Stockman@fcc.gov.

SUPPLEMENTARY INFORMATION: This is a summary of the Commission's Third Further Notice of Proposed Rulemaking (Third FNPRM), PS Docket Nos. 21-346 and 15-80; ET Docket No. 04-35, FCC 25-45, adopted August 4, 2025, and released August 6, 2025. The full text of this document is available by downloading the text from the Commission's website at: https://docs.fcc.gov/public/attachments/FCC-25-45A1.pdf. The full text of this document is available for public inspection and copying during regular business hours in the FCC Reference Center, 45 L Street NE, Washington, DC 20554. To request materials in accessible formats for people with disabilities (Braille, large print, electronic files, audio format), send an email to FCC504@fcc.gov or call the Consumer & Governmental Affairs Bureau at 202-418-0530 (voice). A RULE relating to 47 CFR part 4 is published elsewhere in this issue of the Federal Register.

Ex Parte Rules

The proceeding this Third FNPRM initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b). In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Regulatory Flexibility Analysis

The Regulatory Flexibility Act of 1980, as amended (RFA), requires that an agency prepare a regulatory flexibility analysis for notice-and-comment rulemaking proceedings, unless the agency certifies that “the rule will not, if promulgated, have a significant economic impact on a substantial number of small entities.” Accordingly, the Commission has prepared an Initial Regulatory Flexibility Analysis (IRFA) concerning potential rule and policy changes contained in this Third FNPRM. The IRFA is set forth in Appendix D of the FCC document, https://www.fcc.gov/document/fcc-proposes-modernization-nations-alerting-systems. The Commission invites the general public, in particular small businesses, to comment on the IRFA. Comments must be filed by the deadlines for comments on the NPRM indicated on the first page of this Third FNPRM and must have a separate and distinct heading designating them as responses to the IRFA.

Paperwork Reduction Act

This Third Further Notice of Proposed Rulemaking may contain revised information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

Providing Accountability Through Transparency Act

Consistent with the Providing Accountability Through Transparency Act, Public Law 118-9, a summary of this Third FNPRM will be available on https://www.fcc.gov/proposed-rulemakings.

Synopsis

I. Third Further Notice of Proposed Rulemaking

A. Streamlining the DIRS Reporting Framework

The Third FNPRM proposes to redesign the DIRS user interface to offer manual DIRS filers the ability to file a single, dynamic form instead of the current array of ten separate worksheets concerning different types of service and infrastructure, and seek comment on this proposal. Under the current framework, when the Bureau activates DIRS, providers must log into DIRS the day after activation (and on each subsequent day during which DIRS remains active) to complete worksheets applicable to its infrastructure. As described below, each of the ten DIRS worksheets is about one page in length and includes multiple information fields for providers to complete, and providers that file manually must input line-item data for each report applicable to the services they provide—and sometimes must complete multiple versions of the same worksheet if, for instance, they have more than one type of major equipment affected by the disaster. Many of the worksheets request overlapping data, rendering the current DIRS manual reporting framework cumbersome and inefficient for manual filers. Moreover, the frequency and intensity of disasters has increased since the Commission first established DIRS in 2007, leading to more frequent and lengthier DIRS activations. This increase, combined with newly effective mandatory DIRS reporting obligations for cable communications, wireless, wireline and interconnected VoIP providers, makes it appropriate for us to examine whether to simplify the DIRS reporting framework.

Under our proposal, rather than filling out a series of separate, overlapping worksheets, providers that log into DIRS would respond to initial questions concerning the types of services they provide in the DIRS activation area and the types of equipment and facilities affected by the disaster. Based on these initial responses, each provider would be presented with questions seeking information relevant only to the services it provides, and would only be required to provide information common to multiple services and equipment types (such as the location and number of subscribers affected) once. For DIRS filers who complete the current worksheets manually, who we acknowledge represent a minority of the providers who are required to report in DIRS, this will also eliminate the need to complete multiple copies of certain worksheets if, for instance, they must report damage to multiple types of equipment or cell sites out in multiple counties. We further propose to include a “one-click” option on the consolidated worksheet for providers to indicate there is “no change” from the preceding day's DIRS report, which would eliminate the current need for providers to complete multiple steps to report each day when their infrastructure status has not changed. We believe these modifications may significantly simplify and reduce the time burden associated with manual DIRS data entry, while preserving the value of DIRS for the Commission and emergency management officials. We seek comment on this assessment.

We seek comment on how we could best implement these changes to DIRS. In an appendix, we propose sets of fields that we tentatively believe will be most relevant to each type of provider in DIRS and that therefore would need to be completed by those providers as part of the dynamic manual form. Should changes be made to this approach to ensure that providers are completing both all the fields that are relevant to them, and only the fields that are relevant to them? Are there additional ways in which we can streamline the method by which providers report in DIRS without adversely impacting either the quality or utility of information that DIRS provides to public safety stakeholders and emergency managers?

We have identified several of the current DIRS worksheets and information fields that we propose to eliminate or modify because they are duplicative or may not provide information that provides significant value for emergency response. Specifically, we seek comment on whether we should take the following actions:

• Eliminate the fields from the Inter-exchange Carrier (IXC) Blocking worksheet, which does not appear to have proven useful for disaster response.

• Eliminate the Satellite worksheet, which we believe is unnecessary because no satellite service providers have ever made a DIRS filling.

• Eliminate the “Percent of Historical Capacity Available” field from the Wireless Cell Site by County worksheet, because the Commission can determine the extent to which capacity is available based on the number of cell sites reported as up or down.

• Eliminate fields from the Cable System worksheet that request both the number of cable telephone subscribers served and the number whose service is down, as these fields duplicate data that also must be reported for VoIP service.

• Eliminate fields from the Cable System and Major Equipment worksheets that request the numbers of video subscribers served and the number whose service is down, because we do not believe the availability of cable video service constitutes critical disaster-response information.

• Eliminate the “Number of Access Lines” field from the Major Equipment worksheet, which is covered in more granular questions elsewhere on the same worksheet.

• Harmonize fields on the Interoffice Facilities—TSP worksheet with NORS by requesting information about the number of Optical Carrier circuits (or their functional equivalent) affected, and eliminating the requirement to report the “number of DS3s down.”

• Make it voluntary for providers to report the number of remote aggregation devices that are down on the Remote Aggregation Devices worksheet, which seeks information that is less crucial for emergency response than data requested elsewhere on the same worksheet.

• Make it voluntary, instead of mandatory, for providers to report the number of broadband data users served and the number of those users whose service is down, as found on the Major Equipment and Cable System worksheets (except as the Commission requires as a condition for the receipt of Universal Service Funds).

• Instead of the current approach, under which some worksheets request both the address and latitude and longitude of affected equipment or facilities, we would request location information in one of these formats (but not both) for each type of facility or equipment. We seek comment on whether this change would both reduce the number of fields in DIRS and improve the data by making it more uniform, and on whether, for each type of equipment or facility for which information is requested in DIRS, it would be more useful to request latitude and longitude or address.

We seek comment on whether eliminating or modifying these worksheets and fields would reduce the time burden associated with both manual and batch DIRS filing, and on whether the elimination or modification of these worksheets and fields would have a positive or negative effect on public safety or disaster recovery. For example, would eliminating fields concerning cable communications service video subscribers reduce emergency managers' visibility into disaster impacts to people with disabilities, given the role of video-enabled alerting and notifications for people with access and functional needs? We also seek comment on additional ways we can streamline the substance of DIRS reporting for manual and batch filers to reduce filing burdens and without sacrificing the value of DIRS for emergency response and recovery. Are there other ways the Commission can modify or improve the reporting process to reduce compliance burdens for smaller providers?

Because information reported in DIRS is vital to determining where the “reparation, replacement, and restoration of communications infrastructure” is needed, we seek to increase DIRS's utility as a key input to disaster recovery efforts. Given the emergence of public safety communications networks and offerings such as FirstNet, Verizon Frontline, and T-Priority, we seek comment on whether to add fields to DIRS, as shown in an appendix, to enable voluntary reporting on the status of public safety broadband networks during DIRS. Currently, AT&T's, Verizon's, and T-Mobile's DIRS infrastructure status reports do not distinguish impacts to their respective public safety broadband networks from effects on other customers. This prevents the Commission from disseminating information to emergency management agencies about outages that may affect first responders' ability to communicate with one another and with PSAPs in disaster-affected areas. The Commission proposed requiring FirstNet to report information about its infrastructure status in DIRS in the Second Report and Order & FNPRM, which most commenters supported in view of FirstNet's role in enabling communications for first responders during disaster response and recovery. FirstNet opposed this proposal, arguing that the information that it already provides to customers via its FirstNet Central platform is a sufficient source of near real-time operational status information. FirstNet Central, however, does not report outages within any specific required timeframe and is not accessible to non-FirstNet users. First responders rely on public safety broadband networks to access key technologies that affect situational awareness, such as cameras that convey real-time or historical data; internet-connected devices and sensors that monitor weather, traffic, environmental issues, or access to secured locations; and maps and Geographic Information Systems (GIS) that may provide the location of responders or assets, potential hazards, or relational information between personnel and assets. Thus, FirstNet and other public safety broadband networks are a critical component of timely and effective emergency response. Any disruption to these services could literally be a matter of life or death for first responders themselves or members of the public who rely on police, fire, and emergency medical services that subscribe to these services. In view of the particularly sensitive role FirstNet and other public safety communications networks can play by enabling first responders to communicate during emergencies, we believe it appropriate to collect information during disasters on the operational status of FirstNet and similar public safety communications networks on a voluntary basis and seek comment on this approach. How would public safety stakeholders use this information if it were to be collected? We also seek comment on the burdens that collecting and reporting this information in DIRS would pose to the providers of these public safety networks, and whether these providers should report this information on a mandatory or voluntary basis. In seeking comment, we seek to both refresh the record on this issue from the Second Report and Order & FNPRM and broaden its potential scope to include other public safety communications networks.

We also seek comment on whether the Commission should collect more granular information in DIRS from wireless providers on the location of cell sites that are out of service. Wireless service is an important lifeline during disasters and emergencies, including by enabling the public to receive Wireless Emergency Alerts (WEA). Currently, DIRS collects information about the county in which out-of-service cell sites are located. However, the average geographic size of a county in the United States is over 1,100 square miles, so the county-based data DIRS collects is often insufficient to pinpoint which communities have lost wireless connectivity. Emergency managers have often requested more specific cell site location and coverage information from the Commission to help prioritize recovery efforts. To provide first responders more actionable information, we propose to revise our Wireless Cell Site by County worksheet to enable wireless providers to voluntarily provide more granular location information for cell sites in a DIRS activation area, or, alternatively, to attach geospatial data describing cell site location and coverage to their DIRS submissions. In what format(s) and level of granularity should the Commission collect this data? We seek comment on whether and how public safety officials would use this information to support disaster response. We understand that many wireless providers already have this information and seek comment on the burden associated with providing it as part of their DIRS reports.

The Commission has delegated authority to the Bureau “to administer the communications disruption reporting requirements contained in part 4 of this chapter and to revise the filing system and template used for the submission of such communications disruption reports.” We believe that this existing delegation is sufficiently broad to allow the Bureau to implement these changes to DIRS, as well as future modifications to DIRS and its fields that may be needed to ensure that the system continues to serve its crucial role in disaster response and recovery. We seek comment on this view, including whether this delegation should be amended to more clearly describe the Bureau's administrative responsibilities.

B. Eliminating the Requirement To File DIRS Final Reports

We propose to eliminate the requirement for mandatory DIRS filers to submit a final report within 24 hours of DIRS deactivation and seek comment on this proposal. Based on our experience administering the DIRS final report requirement, we tentatively conclude that final DIRS reports are not sufficiently beneficial to justify the burden they impose. We do not believe that these reports contain additional information beyond what is included in regular DIRS filings that meaningfully improves the Commission's (or public safety officials') situational awareness. We have found that, during the 24-hour period between DIRS deactivation and the deadline to submit final DIRS reports, providers do not develop significantly deeper insight into the expected repair time for their degraded facilities. Indeed, 24 hours after DIRS deactivation, the timeframe for the recovery of damaged assets may still depend on factors outside of the service provider's control, such as the accessibility of the damaged area to service technicians or the availability of replacement parts. In such circumstances, providing a service restoration estimate to local emergency managers could do more harm than good by inviting reliance on an uncertain service restoration timeline. We also believe that eliminating final reports would reduce the overall DIRS reporting burden for mandatory DIRS filers and enable these providers to better focus their resources on restoration and recovery activities, rather than regulatory reporting, without adversely affecting public safety stakeholders. We seek comment on these beliefs.

We also seek comment on whether requiring mandatory DIRS reporting for cable communications, wireline, wireless, and interconnected VoIP providers has resulted in useful information for emergency managers and other public safety officials. For those public safety officials who have experienced DIRS activations under both voluntary and mandatory reporting regimes, are public safety officials receiving more useful and/or complete information than they did when DIRS reporting was voluntary? How are public safety officials using this information? Is it premature to make this assessment given that DIRS filing only became mandatory in February 2025 and there has only been one DIRS activation since then? If so, how much additional time do parties anticipate is needed to make an assessment? Are there additional changes to DIRS that would make it easier for providers to use and reduce the burdens associated with reporting? Are there other ways the Commission can modify or improve the reporting process to facilitate compliance with DIRS reporting obligations, e.g., how DIRS is activated, or how the Commission notifies communications service providers of DIRS activations?

C. Eliminating DIRS Reporting Obligations for Resellers and Mobile Virtual Network Operators

DIRS enables the Commission to collect infrastructure status and restoration information from communications service providers during disasters and subsequent recovery efforts. However, as currently constituted, the Commission's mandatory DIRS reporting rules also apply to communications service providers that do not own their own infrastructure or other facilities, i.e., Mobile Virtual Network Operators (MVNOs) and wireline and interconnected VoIP resellers. As a result, these non-facilities-based providers are required to submit reports concerning infrastructure they do not own that will already be the subject of DIRS reporting by their facilities-based counterparts, creating additional burdens for them and for the underlying facilities-based providers who must relay infrastructure status to their non-facilities based partners to enable their reporting. To eliminate unnecessary burdens on MVNOs and resellers, as well as on the underlying facilities-based providers who support them, we propose to limit DIRS reporting to facilities-based providers and thereby exempt MVNOs and resellers from the obligation to file DIRS reports. We seek comment on this proposal.

Given the importance of wireless service in emergencies, in order to maintain situational awareness about the impact of disasters on service to customers of MVNOs, we propose to require facilities-based wireless providers to list in their initial report in DIRS which MVNOs utilize their respective networks within the DIRS activation area. In this way, providers would only need to list their MVNO information once. Further, we expect that facilities-based providers to have this information readily available, as such network use arrangements are governed by detailed agreements with the MVNOs, and seek comment on this belief. Alternatively, would requiring MVNOs to identify their underlying network provider as part of a limited DIRS filing be a more efficient and less burdensome way to collect this information? Would information about the operational status of MVNOs be valuable to federal, state, Tribal, territorial, and local stakeholders for maintaining visibility into the operational status of all wireless service providers and their subscribers? To what extent would this proposal reduce compliance burdens for non-facilities-based providers and/or their facilities-based partners? Would it be useful for the Commission to also require facilities-based wireline and VoIP providers to list in DIRS which resellers utilize their respective networks within the DIRS activation area?

D. Extending the NORS Reporting Waiver to DIRS Lite Activations

In its petition, ATIS asked the Commission to clarify whether the Commission's waiver of NORS filing obligations during DIRS activations extends to activations of DIRS Lite. DIRS Lite collects information about the status of major wireline and wireless assets, such as switches, and PSAPs, for disaster events that are less serious than those triggering DIRS activations. Instead of filers reporting in an online system as they do when DIRS is activated, DIRS Lite consists of information compiled by Commission staff in response to email and telephone requests to communications service providers. As a result, the scope of the DIRS-Lite information collection is narrower than that of DIRS and is not available to agencies with NORS or DIRS access. We seek comment on whether the NORS reporting waiver afforded to mandatory DIRS filers should be extended to providers that share information with the Commission during DIRS-Lite activations. Is the information the Commission receives in DIRS-Lite activations an appropriate substitute for NORS reporting in situations where DIRS-Lite is activated? Would public safety stakeholders have sufficient visibility into communications infrastructure status from DIRS-Lite submissions, given both the voluntary nature of DIRS-Lite activations and the fact that the Commission's NORS and DIRS information sharing regime does not extend to DIRS Lite? Would extending the NORS waiver to DIRS-Lite activations create a gap in the Commission's outage records and data analysis, allowing providers to avoid NORS filings, which require information about the cause and scope of an outage, while submitting only information the provider chooses to include as part of a voluntary oral or emailed submission to Commission staff?

E. Eliminating Unnecessary Barriers to Information Sharing

Since direct access to NORS and DIRS filings became available on September 30, 2022, only 22 federal, state, Tribal, or territorial emergency management or public safety agencies have sought and been granted direct access. Our understanding is that several emergency management agencies have declined to participate in the Commission's NORS and DIRS information sharing program because they regard the requirements as too burdensome. As a result of this relatively low rate of adoption, we are concerned that NORS and DIRS information is being underutilized during emergencies. We seek comment on this view.

We seek comment on ways to simplify our information sharing requirements to make it easier for emergency management agencies to obtain direct access to NORS and DIRS filings for use in restoration and recovery efforts. For example, we seek comment on whether eliminating the following provisions of the Participating Agency Certification Form would encourage greater participation by federal and state agencies while continuing to safeguard confidential information: (1) remove provisions that simply restate the rules and associated training materials; (2) eliminate requirements that agencies annually recertify to the terms of access; (3) dispose of requirements that agencies regularly change user account passwords; and (4) remove requirements that requesting agency employees complete initial and annual security trainings to access NORS and DIRS reports. We also seek comment on whether to loosen the restrictions on how non-confidential NORS and DIRS data can be shared and used, so that the information can be shared more broadly with local public safety agencies and government agencies with relevant equities outside the emergency-management space. If these restrictions are loosened, which sharing restrictions should be modified or eliminated and what kinds of additional uses should be allowed? We seek comment on whether these actions would further our goal of promoting more robust participation in the Commission's information sharing program, which would in turn enhance emergency response and public safety efforts.

The Commission could also ease access to DIRS data by making some information included in DIRS filings more widely available to the public. We seek comment on whether there are types of information currently included in DIRS filings that could be subject to public disclosure without adversely impacting national security or commercially sensitive interests. Narrowing the presumption of confidentiality for DIRS filings may allow the Commission to include more data in public DIRS reports, eliminating the need for emergency management agencies to enter into complex information sharing agreements with the Commission while still protecting providers' most sensitive data. This approach would also increase overall transparency into the reliability of providers' networks, which will increase competition between providers. Allowing greater public access to DIRS reports could result in a variety of potential benefits, including more information for the public about the scope of outages and disaster-related service disruptions when they occur, so that they can fund alternative means of communications. Moreover, researchers or other groups could collate and analyze the data in DIRS reports to help identify systemic or provider-specific problems and recommend solutions. As the Commission has recognized, even limited information disclosure from outage reports can spur industry-wide collaboration to improve network reliability issues and other improvements. Is it necessary for all of the information filed in DIRS to continue to be treated confidentially? What specific categories of information do providers view as particularly sensitive that may warrant continued confidential treatment, and what harms may arise if that information was publicly released?

F. Cost Benefit Analysis

We believe that our proposals to reduce the burdens of DIRS reporting on service providers will result in annual cost savings of approximately $4 million, which outweighs the $1,400 one-time cost and the $215,000 annual recurring costs to implement these changes. The approximate $4 million benefit estimate includes cost savings of $143,000 for streamlining the filing process and eliminating the final report requirement for facilities-based voice providers, $3.9 million from eliminating DIRS reporting obligations for MVNOs and VoIP resellers, and $700 for waiving the NORS filing requirement when DIRS LITE is activated. The cost estimates include a $1,400 one-time cost for DIRS batch filing reconfiguration, an annual cost of $143,000 for facilities-based wireless providers to include MVNO information in DIRS filing, and an annual cost of $72,000 for public safety broadband networks to report outages when DIRS is activated. These net cost savings, along with freeing up resources to restore and maintain service, will outweigh any potential effects on public safety from the Commission no longer receiving and sharing certain types of infrastructure status information.

Pursuant to staff estimation, at the county-level, there are on average 53 fixed voice providers, including cable communications, wireline, and VoIP providers per county. Among these, an average of 12 fixed voice providers are facilities-based, and 41 are non-facilities-based resellers. We further estimate that there are an average of six facilities-based mobile wireless voice providers and 82 MVNOs per county. We estimate the overall benefits from cost savings for providers that arise from modifying DIRS as proposed above to be approximately $143,000. By removing the need for providers to select from the current array of ten separate forms concerning different types of service and infrastructure, we estimate that manual filers should be able to complete their filings more quickly than prior to these changes. In addition, we estimate that eliminating unnecessary and duplicative fields will allow DIRS filings to be submitted more quickly. While it is difficult to precisely estimate the change in burden for providers overall due to differences in burdens that arise from differing service types, size, extent of service area, and preferred filing method, we estimate that these changes are likely to result in at least a 20% reduction in the amount of time that providers must spend on average when filing in DIRS on average. Our proposal to eliminate the requirement to file a final DIRS report further reduces this burden. 2025 statistics suggest a base hourly wage of $24.12/hour. According to the Bureau of Labor Statistics, as of March 2025, civilian wages and salaries averaged $32.92/hour and benefits averaged $15/hour. Using these figures, benefits constitute a markup of $15/$32.92 ~46%. Taking 46% for cost of benefits ($11.10/hour), we arrive at an hourly compensation of $35.22/hour ($24.12/hour + $11.10/hour). We estimate the cost saving from streamlining DIRS reporting with a (20% cost reduction) × 1 office and administrative support worker × ($35.22 hourly compensation) × [(10/60) hours for the initial entry + (10/60) hours for daily updates × 14 days] × 339 counties × 18 facilities-based service providers = $107,456. We further estimate a $35,819 cost saving from eliminating the final reporting requirement as 1 office and administrative support worker × ($35.22 hourly compensation) × (10/60) hours for the final report entry × 339 counties × 18 facilities-based service providers = $35,819. The aggregate cost saving is $143,275 (= $107,456 + $35,819), which we round to $143,000. Using the updated 2025 hourly compensation figure of $35.22, we estimate a total annual cost savings of $143,000 for facilities-based providers. We seek comment on our analysis. We seek comment on whether this methodology remains an appropriate starting point for identifying the cost savings that arise from the changes to DIRS that we propose today. If not, what methodology should we use to determine the costs associated with DIRS filings?

We recognize that our proposal to eliminate certain data fields may cause service providers that use the DIRS batch filing option to incur one-time costs. In batch filing, a service provider utilizes the Commission's spreadsheet template so that multiple DIRS worksheets can be filed simultaneously. In response to our proposed reporting field changes, a provider may need to reconfigure its systems to reorganize how it exports data, and to ensure that the data is formatted in a manner accepted by DIRS. This may involve a one-time cost of an Information Technology (IT) professional, such as a database administrator, setting up the new index. According to the BLS, a database administrator has an average hourly wage of $51.65 per hour, which would amount to a total hourly compensation of $75.41/hour. We find this by taking 46% for cost of benefits ($23.76/hour), arriving at an hourly compensation of $75.41/hour (= $51.65/hour + $23.76/hour). Updating a provider's systems can take anywhere from a few seconds to several hours, depending on the amount of data fields. The amount of data required for a DIRS report is relatively minimal. Accordingly, we estimate that the one-time costs would require an average of one hour in view of the amount of data being modified. We estimate the total cost to be no more than $1,357 = 1 database administrator × $75.41/hour × 1 hour × 18 facilities-based cable, wireline, wireless, and interconnected VoIP providers, which we round to $1,400. This would result in an upfront cost of no more than $1,400 if all the DIRS filers use the batch filing option, which we believe would be significantly outweighed by the recurring cost savings described above. We seek comments on these cost estimates.

We estimate that clarifying that we are excluding resellers and MVNOs from the requirements to file in DIRS will result in additional savings of $3.9 million for those categories of providers. In the Second Report and Order, we did not include resellers and MVNOs in the cost calculation. Instead, we estimated that an average county would be supported by 54 voice providers, including facilities-based providers and VoIP resellers but omitting any MVNOs. As currently constituted, the Commission's mandatory DIRS reporting rules also apply to service providers that do not own their own infrastructure, i.e., MVNOs and wireline and interconnected VoIP resellers. To eliminate unnecessary burdens on MVNOs and resellers, we propose to limit DIRS reporting to facilities-based providers and thereby exempt MVNOs and resellers from the obligation to file DIRS reports. We estimate that the proposed exclusion of non-facilities-based providers from the DIRS filing requirement will result in an annual cost savings of $3.9 million for these affected MVNOs and resellers. We arrived at this estimate by calculating an average of 82 MVNOs and 41 resellers providing service in each county, and then applying the same cost methodology for DIRS filings that we use in the Second Report and Order. Specifically, we estimate the cost savings as follows: 1 office and administrative support worker × ($35.22 hourly compensation) × [(10/60) hours for the initial entry + (10/60) hours for daily updates × 14 days + (10/60) hours for the final report entry] × 339 counties × (82 MVNOs + 41 resellers) = $3,916,182, which we round to $3.9 million. To maintain situational awareness about the impact of disasters on service to customers of MVNOs, we propose to require facilities-based wireless providers to list in DIRS which MVNOs utilize their respective networks within the DIRS activation area. We believe the cost of requiring facilities-based wireless providers to list in DIRS which MVNOs utilize their respective networks within the DIRS activation area would be minimal because facilities-based providers should have this information readily available. Nevertheless, we conservatively estimate that the additional reporting cost should not be greater than the overall DIRS reporting burden for these wireless facilities-based providers. We estimate $143,000 as an upper bound of such incremental costs, as follows: (1-20% cost saving) × 1 office and administrative support worker × ($35.22/hour) × [(10/60) hours for the initial entry + (10/60) hours for daily updates × 14 days] × 339 counties × 6 facilities-based wireless providers = $143,275, which we round to $143,000. We recognize that requiring information on public safety broadband networks to be included in DIRS reports may trigger additional costs. We estimate this additional filing cost will not exceed $72,000, using (1-20% cost saving) × {1 office and administrative support worker × ($35.22/hour) × [(10/60) hours for the initial entry + (10/60) hours for daily updates × 14 days] × 339 counties × 3 public safety broadband network providers} = $71,637, which we round to $72,000. We do not account for any benefits and costs arising from collecting additional voluntary information (e.g., granular location information) because providers will only voluntarily provide such information when they deem the benefits from providing such information outweigh the costs. We seek comment on these estimates.

For extending the NORS suspension to DIRS Lite, we estimate the cost savings to be approximately $70 per DIRS-Lite responder. The Commission has historically estimated that a provider requires two hours to complete all of the NORS filing requirements. The Commission previously activated DIRS Lite for New Mexico wildfires in 2024 and for Hawaii wildfires in 2023. Our records indicate that 10 service providers responded during each DIRS-Lite activation. In view of this information, we estimate that providers would have saved approximately $700 per year by having their NORS filings requirements waived, by estimating that that the task of reporting outages in NORS can be accomplished by a miscellaneous office and administrative support worker × 2 hours per provider × $35.22 per hour × 10 providers = $704, which we round to $700 per year. We seek comment on our analysis.

We seek comment on the benefit from cost savings associated with our proposed changes to the Commission's NORS and DIRS information sharing requirements. In the past, we have estimated that each agency participating in that framework would spend five hours preparing, reviewing, and submitting its initial request for NORS and DIRS access to the FCC and a similar amount of time annually to re-certify their qualifications to access NORS in every year thereafter. These initial and annual requirements include the review of the security training materials and the submission of the certification and recertification forms, which we propose to simplify in the Third FNPRM. Would the proposed changes reduce the number of hours that agencies would require to apply for NORS and DIRS access, and if so, by how much? Are there other ways in which the changes to NORS and DIRS that we propose above would reduce burdens on agencies that seek NORS and DIRS information?

We further seek comment on the benefits and costs associated with loosening the restrictions on how non-confidential NORS and DIRS data can be shared and used, and making more data publicly available. Commenters are encouraged to provide specific examples, suggesting guiding criteria for making confidentiality determinations when the harms of disclosure outweigh the benefits of public access to these data. We particularly welcome input supported by data, legal precedent, and practical experience.

II. Initial Regulatory Flexibility Analysis (IRFA)

As required by the Regulatory Flexibility Act of 1980, as amended (RFA), the Federal Communications Commission (Commission) has prepared an Initial Regulatory Flexibility Analysis (IRFA) of the policies and rules proposed in the Third FNPRM assessing the possible significant economic impact on a substantial number of small entities. The Commission requests written public comments on this IRFA. Comments must be identified as responses to the IRFA and must be filed by the deadlines for comments specified on the first page of the Third FNPRM. The Commission will send a copy of the Third FNPRM, including this IRFA, to the Chief Counsel for the Small Business Administration (SBA) Office of Advocacy. In addition, the Third FNPRM and IRFA (or summaries thereof) will be published in the Federal Register.

A. Need for, and Objectives of, the Proposed Rules

The Third FNPRM explores the benefits of reducing burdens faced by small and other service providers and government agencies so that they can dedicate more resources to restoring and maintaining service during a disaster. The Third FNPRM also seeks comment on collecting new information that we believe would offer significant public safety value, namely collecting infrastructure status information for public safety communications service offerings like FirstNet, and collecting cell site location data for downed cell sites on a voluntary basis. Our proposals not only reduce burdens from the mandated reporting requirements of the Second Report and Order, but also burdens that arise from the Commission's sharing information contained within the outage reports. The Commission believes the proposals in the Third FNPRM strike the appropriate balance of reducing regulatory burdens for providers while insuring we collect necessary and relevant information when disasters occur.

B. Legal Basis

This action is authorized pursuant to sections 1, 4, 201, 214, 218, 251, 301, 303(b), 303(g), 303(j), 303(r), 307, 309, 316, 332, and 403, of the Communications Act of 1934, as amended, 47 U.S.C. 151, 154, 201, 214, 218, 251, 301, 303(b), 303(g), 303(j), 303(r), 307, 309, 316, 332, 403; and sections 2, 3(b), and 6-7 of the Wireless Communications and Public Safety Act of 1999, 47 U.S.C. 615 note, 615, 615a-1, and 615b.

C. Description and Estimate of the Number of Small Entities to Which the Proposed Rules Will Apply

Small Businesses, Small Organizations, Small Governmental Jurisdictions. Our actions, over time, may affect small entities that are not easily categorized at present. We therefore describe three broad groups of small entities that could be directly affected by our actions. First, while there are industry specific size standards for small businesses that are used in the regulatory flexibility analysis, in general, a small business is an independent business having fewer than 500 employees. These types of small businesses represent 99.9% of all businesses in the United States, which translates to 34.75 million businesses. Next, “small organizations” are not-for-profit enterprises that are independently owned and operated and not dominant their field. While we do not have data regarding the number of non-profits that meet that criteria, over 99 percent of nonprofits have fewer than 500 employees. Finally, “small governmental jurisdictions” are defined as cities, counties, towns, townships, villages, school districts, or special districts with populations of less than fifty thousand. Based on the 2022 U.S. Census of Governments data, we estimate that at least 48,724 out of 90,835 local government jurisdictions have a population of less than 50,000.

The rules proposed in the Third FNPRM if adopted will apply to small entities in the following industries: All Other Telecommunications; Media Streaming Distribution Services, Social Networks, and Other Media Networks and Content Providers; Radio Stations; Satellite Telecommunications; Telecommunications Resellers; Television Broadcasting; Wired Telecommunications Carriers; and Wireless Telecommunications Carriers (except Satellite). Affected entities within these identified industries include: Competitive Local Exchange Carriers; Incumbent Local Exchange Carriers; Local Exchange Carriers; Wired Telecommunications Carriers; Interexchange Carriers; Local Resellers; Toll Resellers; Telecommunications Resellers; Wireless Telecommunications Carriers (except Satellite); and Wireless Telephony.

D. Description of Economic Impact and Projected Reporting, Recordkeeping, and Other Compliance Requirements for Small Entities

The proposed requirements in the Third FNPRM, if adopted, will impose new or modified reporting, recordkeeping and/or other compliance obligations on small entities which should simplify and reduce regulatory reporting and filing requirements. These proposed requirements include exempting non-facilities-based providers from mandatory DIRS reporting and eliminating the DIRS final report; redesigning the DIRS user interface to allow manual DIRS filers to use a single dynamic form instead of completing a series of forms and overlapping worksheets; presenting small and other providers only with questions relevant to the services they provide and only require information common to multiple services and equipment types to be provided once; voluntarily collecting infrastructure status information for public safety communication service offerings like FirstNet and cell site location data for downed cell sites; and eliminating or making voluntary completion of specific data fields not core to disaster recovery and response. While the majority of the Commission's proposals in the Third FNPRM, if adopted, will result in cost saving for small and other providers, the Commission is aware that our proposal to eliminate certain data fields may result in small and other providers that use the DIRS batch filing option to incur a one-time cost for an Information Technology (IT) professional, such as a database administrator. Small entities therefore may have to hire an IT professional to the extent they do not already have one. We believe this expense would be significantly outweighed by the recurring cost savings of our other proposal in Third FNPRM. We also recognize that requiring information on public safety broadband networks to be included in DIRS reports may trigger additional costs.

E. Federal Rules That May Duplicate, Overlap, or Conflict With the Proposed Rules

None.

F. Discussion of Significant Alternatives Considered That Minimize the Significant Economic Impact on Small Entities

The Third FNPRM seeks comment on proposals to reduce burdens for service providers during a disaster. We expect the comments we receive in response to the Third FNPRM to include information which should help the Commission further identify, and evaluate relevant issues and burdens for small entities, including compliance costs, before adopting final rules. The Commission's proposals in the Third FNPRM reflect the significant alternatives we considered to reduce the burdens of DIRS reporting and minimize the economic impact for small and other providers. While we continue believe the benefits of DIRS reporting for purposes of disaster response and recovery outweighs its burdens, the Commission is mindful that DIRS reporting requires providers to allocate resources to reporting while they are simultaneously responding to an ongoing disaster. We consider several alternatives in the Third FNPRM that seek to give small and other providers maximum flexibility and reduce potential costs of compliance with our various proposals, and seek comment on other means to reduce DIRS reporting burdens. We expect to consider the economic impact more fully on small entities following our review of comments filed in response to the Third FNPRM and the IFRA. The Commission's evaluation of this information will shape the final alternatives it considers to minimize any significant economic impact that may occur on small entities, the final conclusions it reaches and any final rules it promulgates in this proceeding. The Third FNPRM seeks comment on any alternatives to the Commission's proposals that could reduce burdens, particularly for small entities, while preserving the intended benefits of DIRS reporting.

III. Ordering Clauses

Accordingly, it is ordered, pursuant to the authority contained in sections 1, 4, 201, 214, 218, 251, 301, 303(b), 303(g), 303(j), 303(r), 307, 309, 316, 332, and 403, of the Communications Act of 1934, as amended, 47 U.S.C. 151, 154, 201, 214, 218, 251, 301, 303(b), 303(g), 303(j), 303(r), 307, 309, 316, 332, 403, sections 2, 3(b), and 6-7 of the Wireless Communications and Public Safety Act of 1999, 47 U.S.C. 615 note, 615, 615a-1, and 615b, that this Third Further Notice of Proposed Rulemaking in PS Docket Nos. 21-346 and 15-80 and ET Docket No. 04-35 is adopted.

It is further ordered that the Commission's Office of the Secretary shall send a copy of this Notice of Proposed Rulemaking, including the Initial Regulatory Flexibility Analysis, to the Chief Counsel for Advocacy of the Small Business Administration.

List of Subjects in 47 CFR Part 4

Airports, Communications common carriers, Communications equipment, Reporting and recordkeeping requirements, Telecommunications.

Federal Communications Commission.
Katura Jackson,
Federal Register Liaison Officer, Office of the Secretary.

Proposed Rules

For the reasons discussed in the preamble, the Federal Communications Commission proposes to amend 47 CFR part 4 as follows:

PART 4—DISRUPTIONS TO COMMUNICATIONS

1. The authority citation for part 4 continues to read as follows:

Authority: 47 U.S.C. 34-39, 151, 154, 155, 157, 201, 251, 307, 316, 615a-1, 1302(a), and 1302(b); 5 U.S.C. 301, and Executive Order no. 10530.

2. Amend § 4.18 by revising paragraph (a) to read as follows:

§ 4.18 Mandatory Disaster Information Reporting System (DIRS) reporting for Cable Communications, Wireless, Wireline, and VoIP providers.

(a) Facilities-based cable communications, wireline communications, wireless service, and interconnected VoIP providers shall submit daily reports on their infrastructure status in the Disaster Information Reporting System (DIRS) when the Commission activates DIRS in geographic areas in which they provide service, even when their reportable infrastructure has not changed compared to the prior day. Facilities-based providers shall include in their reports the following information about areas in which the Commission has activated DIRS:

(1) Cable communications providers shall submit information concerning the type, power status, location, and identifying information of any major equipment that is down.

(2) Wireline communications providers shall submit information concerning the type, power status, location, and identifying information of any major equipment that is down; the quantity of working telephone numbers for which the provider provides service, and the quantity of such numbers that are without service; the name, service area, and number of customers served by any Public Safety Answering Point (PSAPs) for which the provider provides service; the number of Optical Carrier 3 (OC3) circuits or their equivalents that are down; and the location, identifying information, and quantity of working numbers served by any remote aggregation device, and the quantity of such numbers that are without service.

(3) Wireless service providers shall submit information concerning the type, power status, location, and identifying information of any major equipment that is down; the number and location of cell sites that are down or on backup power, and the cause of any cell site outages; and the identity of any Mobile Virtual Network Operators (MVNOs) that rely on the wireless service provider's network in the area.

(4) Interconnected VoIP providers shall submit information concerning the type, power status, location, and identifying information of any major equipment that is down; the number of interconnected VoIP service subscribers without service; and the number of OC3 circuits or their equivalents that are down.

(5) Facilities-based cable communications, wireline communications, and interconnected VoIP providers that are stage 2 recipients of the Uniendo a Puerto Rico Fund and Connect USVI Fund shall also submit information concerning the quantity of broadband internet access service subscribers for whom the provider provides service, and the quantity of such subscribers who are without service.

* * * * *

[FR Doc. 2025-16737 Filed 8-29-25; 8:45 am]

BILLING CODE 6712-01-P